DEPARTMENT OF ENERGY

Federal Energy Regulatory Commission

[Docket No. IC21-3-000]

Commission Information Collection Activities (Ferc-725d); Comment Request; Extension

AGENCY: Federal Energy Regulatory Commission.

ACTION: Notice of information collection and request for comments.

SUMMARY: In compliance with the requirements of the Paperwork Reduction Act of 1995, the Federal Energy Regulatory Commission (Commission or FERC) is soliciting public comment on a renewal of currently approved information collection, FERC-725D (Facilities Design, Connections and Maintenance Reliability Standards).

DATES: Comments on the collection of information are due January 4, 2021.

ADDRESSES: You may submit comments (identified by Docket No. IC21-3-000) by one of the following methods:

• eFiling at Commission's Website: http://www.ferc.gov.

• U.S. Postal Service Mail: Persons unable to file electronically may mail similar pleadings to the Federal Energy Regulatory Commission, 888 First Street NE, Washington, DC 20426

• Effective 7/1/2020, delivery of filings other than by eFiling or the U.S. Postal Service should be delivered to Health and Human Services, 12225 Wilkins Avenue, Rockville, Maryland 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION:

Title: FERC-725D,¹ Facilities Design, Connections and Maintenance Reliability Standards.

¹ This renewal is being submitted to extend the OMB expiration date and will not have an effect on the Docket No. RD20-4 that is being addressed separately.

OMB Control No.: 1902-0247.

Type of Request: Three-year approval of the FERC-725D information collection requirements, with no changes to the reporting or recordkeeping requirements. (There are adjustments to the estimates to update the totals that represent the numbers reflected in the NERC Compliance Registry as of July 17, 2020.)

Abstract: On August 8, 2005, The Electricity Modernization Act of 2005, which is Title XII of the Energy Policy Act of 2005 (EPAct 2005), was enacted into law. EPAct 2005 added a new section 215 to the Federal Power Act (FPA), which requires a Commission-certified Electric Reliability Organization (ERO) to develop mandatory and enforceable Reliability Standards, subject to Commission review and approval. Once approved, the Reliability Standards may be enforced by the ERO, subject to Commission oversight, or by the Commission independently. Section 215 of the FPA requires a Commission-certified ERO to develop mandatory and enforceable Reliability Standards, subject to Commission review and approval. Once approved, the Reliability Standards may be enforced by the ERO subject to Commission oversight or by the Commission independently. In 2006, the Commission certified NERC (now called the North American Electric Reliability Corporation) as the ERO pursuant to section 215 of the FPA. On March 16, 2007 (pursuant to section 215(d) of the FPA), the Commission issued Order No. 693, approving 83 of the 107 initial Reliability Standards filed by NERC. In the intervening years, numerous changes have been made to update, eliminate, or establish various Reliability Standards.

The information collected by FERC-725D is required to implement the statutory provisions of section 215 of the Federal Power Act (FPA) (16 U.S.C. 824c). Pursuant to section 215 of the Federal Power Act (FPA),² in Order 836,³ the commission approved the following standards, FAC-001-2 (Facility Interconnection Requirements), FAC-002-2 (Facility Interconnection Requirements) FAC-001-3 (Facility Interconnection Requirements). Reliability Standard FAC-001-2 requires each transmission owner and applicable generator owner to document facility interconnection requirements, and to make them available upon request to entities seeking to interconnect. In addition, Reliability Standard FAC-001-2 requires each transmission owner and applicable generator owner to include procedures for coordinating studies to determine the impact of interconnecting facilities on existing interconnections as well as on affected systems.

² 16 U.S.C. 824(o).

³ Order 836 in Docket No. RM16-13 was issued on 9/20/2017 and is posted at https://elibrary.ferc.gov/idmws/common/opennat.asp?fileID=14684897.

Reliability Standard FAC-002-2 requires each transmission planner and each planning coordinator to study the reliability impact of interconnecting new—or materially modifying existing—generation, transmission, or electricity end-user facilities on affected systems. In particular, Reliability Standard FAC-002-2 requires transmission planners and planning coordinators to perform steady-state, short-circuit, and dynamic studies to evaluate system performance under both normal and contingency conditions. In addition, Reliability Standard FAC-002-2 requires each generator owner seeking to interconnect, each transmission owner, each distribution provider, and each load-serving entity that is seeking to interconnect new—or materially modifying existing—transmission facilities or end-user facilities to coordinate and cooperate on studies with its transmission planner and planning coordinator. Reliability Standard FAC-001-3 (Transmission Owners) are set out to avoid adverse impacts on the reliability of the Bulk Electric System, Transmission Owners and applicable Generator Owners must document and make Facility interconnection requirements available so that entities seeking to interconnect will have the necessary information.

Type of Respondents: PA/PC, TP, TO, DP, & GO.⁴

⁴ PA = Planning Authority; PC = Planning Coordinator; TO = Transmission Owner; GO = Generator Owner; DP = Distribution Provider; TP = Transmission Provider.

Estimate of Annual Burden ⁵ and Cost: ⁶ The Commission estimates an increase (adjustment) in the annual public reporting burden for the FERC-725D that follow the two standards FAC-001-3 and FAC-002-2. FAC-002-2 which increased from 1,206 to 1,542 and FAC-001-3 (Formerly FAC-001-2) which has no change, remains at 161 responses. 1,542 responses + 161 responses for at total of 1,703 responses, as shown below in the table:

⁵ Burden is defined as the total time, effort, or financial resources expended by persons to generate, maintain, retain, or disclose or provide information to or for a Federal agency. For further explanation of what is included in the information collection burden, refer to 5 Code of Federal Regulations 1320.3.

⁶ Commission staff estimates that the industry's skill set and cost (for wages and benefits) for FERC-725D are approximately the same as the Commission's average cost. The FERC 2020 average salary plus benefits for one FERC full-time equivalent (FTE) is $172,329/year (or $83.00/hour). See footnote 4.

FERC-725D: Mandatory Reliability Standards: FAC (Facilities, Design, Connections, and Maintenance)
| Number of respondents ⁷ | Annual number of responses per respondent | Total number of responses | Average burden hours and cost per response | Total annual burden hours and total annual cost | Average annual cost per respondent
| (1) | (2) | (1) * (2) = (3) | (4) | (3) * (4) = (5) | (5) ÷ (1)
Annual Reporting and Recordkeeping (PA/PC, TP, TO, DP, & GO) | 1,703 | 1 | 1,703 | 270 hrs.; $22,410 | 459,810 hrs.; $38,164,230 | $22,410
Total FERC-725D | 1,703 | 1 | 1,703 | 270 hrs.; $22,410 | 459,810 hrs.; $38,164,230 | 22,410

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁷ The total number of planning authorities, transmission planners and transmission owners, generator owners and distribution providers equals 1,703.

Dated: October 30, 2020.
Nathaniel J. Davis, Sr.,
Deputy Secretary.

[FR Doc. 2020-24552 Filed 11-4-20; 8:45 am]

BILLING CODE 6717-01-P